DEPARTMENT OF JUSTICE

Bureau of Alcohol, Tobacco, Firearms and Explosives

[OMB Number 1140-0002]

Agency Information Collection Activities; Proposed eCollection eComments Requested; Application for Restoration of Firearms Privileges—ATF Form 3210.1

AGENCY: Bureau of Alcohol, Tobacco, Firearms and Explosives, Department of Justice.

ACTION: 30-Day notice.

SUMMARY: The Department of Justice (DOJ), Bureau of Alcohol, Tobacco, Firearms and Explosives (ATF), will submit the following information collection request to the Office of Management and Budget (OMB) for review and approval in accordance with the Paperwork Reduction Act of 1995.

DATES: Comments are encouraged and will be accepted for an additional 30 days until August 28, 2020.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Extension without change of a currently approved collection.

(2) The Title of the Form/Collection: Application for Restoration of Firearms Privileges.

(3) The agency form number, if any, and the applicable component of the Department sponsoring the collection:

Form number: ATF Form 3210.1.

Component: Bureau of Alcohol, Tobacco, Firearms and Explosives, U.S. Department of Justice.

(4) Affected public who will be asked or required to respond, as well as a brief abstract:

Primary: Business or other for-profit.

Other: None.

Abstract: The information requested on the Application for Restoration of Firearms Privileges—ATF Form 3210.1, fulfills the requirements of 18 U.S.C. Chapter 44. Specifically, individuals prohibited from purchasing, possessing, receiving, or transporting firearms, are permitted to apply for the restoration of their firearms privileges, using ATF Form 3210.1. Currently, only corporations may apply for relief, since Congress has not appropriated funds for individuals who are prohibited.

(5) An estimate of the total number of respondents and the amount of time estimated for an average respondent to respond: An estimated 10 respondents will utilize the form annually, and it will take each respondent approximately 30 minutes to complete their responses.

(6) An estimate of the total public burden (in hours) associated with the collection: The estimated annual public burden associated with this collection is five (5) hours, which is equal to 10 (# of respondents) * 1 (# of responses per respondent) * .5 (30 minutes or the time to complete each response).

(7) An Explanation of the Change in Estimates: Due to a congressional restriction, use of this IC is currently limited to corporations and not individuals. As such, the total respondents has reduced by 240, since the last renewal in 2017. Although postage costs increased from .49 per respondent during the 2017 to $0.55 currently, the total public cost burden reduced by $117.50.

If additional information is required contact: Melody Braswell, Department Clearance Officer, United States Department of Justice, Justice Management Division, Policy and Planning Staff, Two Constitution Square, 145 N Street NE, 3E.405A, Washington, DC 20530.

Dated: July 23, 2020.
Melody Braswell,
Department Clearance Officer for PRA, U.S. Department of Justice.

[FR Doc. 2020-16351 Filed 7-28-20; 8:45 am]

BILLING CODE 4410-14-P